DEPARTMENT OF ENERGY

Federal Energy Regulatory Commission

[Docket No. RP02-2-000]

Natural Gas Pipeline Company of America; Notice of Termination of Gathering Service

October17, 2001.

Take notice that on October 1, 2001, Natural Gas Pipeline Company of America (Natural), tendered for filing in Docket No. RP02-2-000 a request pursuant to Section 4 of the Natural Gas Act, 15 U.S.C. 717c, and the Federal Energy Regulatory Commission's policy set forth in its order on rehearing in Arkla Gathering Services Company, 69 FERC ¶61,280 (1994) for authorization to terminate services through previously certificated and uncertificated gathering facilities located in Beckham and Washita Counties, Oklahoma (Elk City, Elk Creek, Liberty Prospect, Southwest Burns Flat and West Sentinel Area Facilities) effective November 1, 2001. Natural intends to sell these facilities to Aquila Gas Processing Corporation (Aquila).

Natural states that copies of the filing have been mailed to the customers which are currently receiving service via the subject facilities and interested state commissions.

Any person desiring to be heard or to protest said filing should file a motion to intervene or a protest with the Federal Energy Regulatory Commission, 888 First Street, NE, Washington, DC 20426, in accordance with Sections 385.214 or 385.211 of the Commission's Rules and Regulations. All such motions or protests must be filed on or before October 24, 2001. Protests will be considered by the Commission in determining the appropriate action to be taken, but will not serve to make protestants parties to the proceedings. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

David P. Boergers,
Secretary.

[FR Doc. 01-26607 Filed 10-22-01; 8:45 am]

BILLING CODE 6717-01-P